DEPARTMENT OF COMMERCE

International Trade Administration

[A-357-816]

Notice of Preliminary Determination of Sales at Less Than Fair Value, Postponement of Final Determination, and Preliminary Negative Determination of Critical Circumstances: Certain Cold-Rolled Carbon Steel Flat Products From Argentina

AGENCY: Import Administration, International Trade Administration, Department of Commerce.

ACTION: Notice of preliminary determination of sales at less than fair value and preliminary negative determination of critical circumstances.

SUMMARY: We preliminarily determine that certain cold-rolled carbon steel flat products from Argentina are being, or are likely to be, sold in the United States at less than fair value, as provided in section 733(b) of the Tariff Act of 1930, as amended. In addition, we preliminarily determine that critical circumstances do not exist for imports of cold-rolled carbon steel flat products from Argentina.

Interested parties are invited to comment on this preliminary determination.

EFFECTIVE DATE: May 9, 2002.

FOR FURTHER INFORMATION CONTACT: J. David Dirstine, Import Administration, International Trade Administration, U.S. Department of Commerce, 14th Street and Constitution Avenue, NW., Washington, DC 20230; telephone: (202) 482-4033.

SUPPLEMENTARY INFORMATION:

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce (“Department's”) regulations are to the regulations at 19 CFR part 351 (April 2001).

Background

Since the initiation of this investigation (Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey and Venezuela, 66 FR 54198 (October 26, 2001) (“Initiation Notice”)), the following events have occurred.

On November 13, 2001, the United States International Trade Commission (“ITC”) preliminarily determined that there is a reasonable indication that imports of certain cold-rolled steel products from Argentina are materially injuring the United States industry (see Certain Cold-Rolled Steel Products From Argentina, Australia, Belgium, Brazil, France, Germany, India, Japan, Korea, the Netherlands, New Zealand, the People's Republic of China, the Russian Federation, South Africa, Spain, Sweden, Taiwan, Thailand, Turkey and Venezuela, 66 FR 57985 (November 19, 2001)).

On November 29, 2001, we selected the largest producer/exporter of cold-rolled steel from Argentina as a mandatory respondent in this proceeding. (See Memorandum to Laurie Parkhill, Director Office 3, from The Team regarding Selection of Respondents dated November 29, 2001, for further details.) We issued the antidumping questionnaire to Siderar S.A.I.C. (“Siderar”) on November 29, 2001.

On December 7, 2001, the petitioners ¹ alleged that there is a reasonable basis to believe or suspect critical circumstances exist with respect to the antidumping investigations of cold-rolled carbon steel flat products from Argentina, Australia, China, India, the Netherlands, Russia, South Africa, South Korea, and Taiwan. On December 14, 2001, the petitioners supplemented their December 7, 2001, submission with additional information.

¹ The petitioners in the concurrent antidumping duty investigations are Bethlehem Steel Corporation, LTV Steel Company, National Steel Corporation, Nucor Corporation, Steel Dynamics, Inc., United States Steel LLC, WCI Steel, Inc., and Weirton Steel Corporation. Weirton Steel Corporation is not a petitioner in the Netherlands case. Effective January 1, 2002, the party previously known as “United States Steel LLC” changed its name to “United States Steel Corporation.”

During the period January through April 2002, the Department received responses to sections A, B, and C, of the Department's original and supplemental questionnaires from Siderar.

On February 7, 2002, pursuant to 19 CFR 351.205(e), the petitioners made a timely request to postpone the preliminary determination. We granted this request on February 14, 2002, and postponed the preliminary determination until no later than April 26, 2002. (See Postponement of Preliminary Determinations of Antidumping Duty Investigations: Certain Cold-Rolled Carbon Steel Flat Products from Argentina, Australia, Belgium, Brazil, France, Germany, India, Japan, Korea, the Netherlands, New Zealand, the People's Republic of China, the Russian Federation, South Africa, Spain, Sweden, Taiwan, Thailand, Turkey and Venezuela, 67 FR 8227 (February 22, 2002)).

On February 15, 2002, we received an allegation from the petitioners that Siderar sold cold-rolled products in Argentina at prices below the cost of production during the period of investigation. Based on our analysis of the allegation we determined that there are reasonable grounds to believe or suspect that Siderar had made home-market sales below its cost of production and on March 15, 2002, we initiated a sales-below-cost investigation of Siderar's home-market sales.

In accordance with 19 CFR 351.206(c)(2)(i), because the petitioners submitted the critical circumstances allegation more than twenty days before the scheduled date of the preliminary determination, the Department must issue the preliminary critical circumstances determination not later than the date of the preliminary determination. A full discussion of our analysis may be found below and in the critical circumstances memorandum from Richard W. Moreland to Faryar Shirzad, dated April 26, 2002 (Preliminary Negative Determination of Critical Circumstances—Argentina). A public version of this memorandum is on file at the Import Administration Central Records Unit, in Room B-099 of the Department of Commerce Building.

Postponement of Final Determination and Extension of Provisional Measures

Pursuant to section 735(a)(2) of the Act, on April 18, 2002, Siderar requested that, in the event of an affirmative preliminary determination in this investigation, the Department postpone its final determination until not later than 135 days after the date of the publication of the preliminary determination in the Federal Register and extend the provisional measures to not more than six months. In accordance with 19 CFR 351.210(b)(2)(ii) and (e), because (1) our preliminary determination is affirmative, (2) Siderar accounts for a significant proportion of exports of the subject merchandise, and (3) no compelling reasons for denial exist, we are granting the respondent's request and are postponing the final determination until no later than 135 days after the publication of this notice in the Federal Register. Suspension of liquidation will be extended accordingly.

Scope of Investigation

For purposes of this investigation, the products covered are certain cold-rolled (cold-reduced) flat-rolled carbon-quality steel products. For a full description of the scope of this investigation, please see the Scope Appendix attached to this notice.

Period of Investigation

The period of investigation (“POI”) is July 1, 2000, through June 30, 2001.

Fair Value Comparisons

To determine whether sales of cold-rolled steel from Argentina to the United States were made at less than fair value (“LTFV”), we compared the export price (“EP”) or constructed export price (“CEP”) to the normal value (“NV”), as described in the “Export Price,” “Constructed Export Price,” and “Normal Value” sections of this notice, below. In accordance with section 777A(d)(1)(A)(i) of the Act, we compared POI weighted-average EPs or CEPs to weighted-average NVs.

Product Comparisons

In accordance with section 771(16) of the Act, we considered all products produced and sold by the respondent in the home market during the POI that fit the description in the “Scope of Investigation” section of this notice to be foreign like products for purposes of determining appropriate product comparisons to U.S. sales. We compared U.S. sales to sales of identical merchandise made in the home market. Where there were no sales of identical merchandise in the home market made in the ordinary course of trade to compare to U.S. sales, we compared U.S. sales to sales of the most similar foreign like product made in the ordinary course of trade. In making the product comparisons, we matched foreign like products based on the physical characteristics reported by the respondents in the following order of importance: hardening and tempering, painting, carbon level, quality, yield strength, minimum thickness, thickness tolerance, edge finish, form, leveling, annealing, and surface finish.

Export Price

In accordance with section 772(a) of the Act, we calculated EP for those sales where the merchandise was sold to the first unaffiliated purchaser in the United States prior to importation or to an unaffiliated purchaser for exportation to the United States. We based EP on the packed delivered price to unaffiliated purchasers in the United States. We also made deductions for movement expenses in accordance with section 772(c)(2)(A) of the Act; these included, where appropriate, ocean freight, marine insurance, U.S. brokerage and handling, U.S. customs duties (including harbor maintenance fees and merchandise processing fees), and U.S. inland freight expenses (freight from port to the customer).

Constructed Export Price

In accordance with section 772(b) of the Act, we calculated CEP for those sales where the merchandise was sold (or agreed to be sold) in the United States, before or after the date of importation, by or for the account of the producer or exporter, or by a seller affiliated with the producer or exporter, to an unaffiliated purchaser.

We based CEP on packed FOB prices to unaffiliated purchasers in the United States. We also made deductions for movement expenses in accordance with section 772(c)(2)(A) of the Act. These included, where appropriate, domestic inland freight (i.e., inland freight expense from plant/warehouse to port of exit), ocean freight, marine insurance, U.S. brokerage and handling, U.S. customs duties, U.S. stevedoring and wharfage charges, and U.S. inland freight expenses (i.e., freight from port to customer). In accordance with section 772(d)(1) of the Act and 19 CFR 351.402(b), we deducted those selling expenses associated with economic activities occurring in the United States, including direct selling expenses (e.g., imputed credit costs) and indirect selling expenses (e.g., inventory carrying costs).

Pursuant to section 772(d)(3) of the Act, we reduced the starting price further by an amount for profit to arrive at the CEP. In accordance with section 772(f) of the Act, we calculated the CEP profit rate using the expenses incurred by Siderar on its sales of the subject merchandise in the United States and the foreign like product in the home market and the profit associated with those sales. See Antidumping Duty Investigation on Cold-Rolled Carbon Steel Flat Products from Argentina—Preliminary Determination Analysis Memorandum for Siderar S.A.I.C. (“Siderar”) from J. David Dirstine to File, dated April 26, 2002 (“Preliminary Analysis Memorandum”).

Normal Value

A. Home-Market Viability

In order to determine whether there is a sufficient volume of sales in the home market to serve as a viable basis for calculating NV (i.e., the aggregate volume of home-market sales of the foreign like product is equal to or greater than five percent of the aggregate volume of U.S. sales), we compared the respondent's volume of home-market sales of the foreign like product to the volume of U.S. sales of the subject merchandise, in accordance with section 773(a)(1)(B) of the Act. Because the respondent's aggregate volume of home-market sales of the foreign like product was greater than five percent of its aggregate volume of U.S. sales for the subject merchandise, we determined that the home market is viable for the respondent.

B. Cost-of-Production Analysis

Based on our analysis of a sales-below-cost allegation submitted by the petitioners on February 15, 2002, we found that there were reasonable grounds to believe or suspect that sales of cold-rolled steel in the home market were made at prices below their cost of production (COP) in accordance with section 773(b)(2)(A)(i) of the Act. Accordingly, pursuant to section 773(b) of the Act, we initiated an investigation of sales-below-cost for Siderar to determine whether sales were made at prices below their respective COP (see letter to Siderar from Laurie Parkhill, Office Director, AD/CVD Enforcement, dated March 15, 2002).

2. Calculation of COP

In accordance with section 773(b)(3) of the Act, we calculated COP based on the sum of the cost of materials and fabrication for the foreign like product, plus an amount for general and administrative expenses (“G&A”) and interest expenses (see “Test of Home-Market Sales Prices” section below for treatment of home-market selling expenses). We relied on the COP data submitted by Siderar except as noted below.

A. We adjusted the reported transfer price for certain raw material inputs purchased from an affiliated company to reflect the market price for such inputs which, in turn, increased the total cost of manufacturing of each model.

B. We have adjusted the total cost of manufacture upward to reflect the difference between product-specific and product grouping or product “family” costs at the two plants where Siderar produced the subject merchandise. Siderar did not provide product-specific costs for the products produced at one of its plants, as we had requested, and we found that, for products where we had both product-specific and product-“family” costs, the “family'-specific costs were understated in comparison to the product-specific costs.

C. We revised Siderar's G&A rate calculation to include other ordinary income, certain expense amounts, and termination of employee costs.

D. We recalculated Siderar's financial-expense ratio. We divided the net interest expense reported on the financial statements (financial and holding results generated by liabilities less those generated by assets) by the cost of sales.

See Memorandum from Laurens van Houten to Neal Halper, Director, Office of Accounting, dated April 26, 2002, Re: Cost of Production and Constructed Value Calculation Adjustments for the Preliminary Determination (“Cost Calculation Memorandum”).

2. Test of Home Market-Sales Prices

On a product-specific basis, we compared the adjusted weighted-average COP to the home-market sales of the foreign like product, as required under section 773(b) of the Act, in order to determine whether the sale prices were below the COP. The prices were exclusive of any applicable billing adjustments, movement charges, rebates, discounts, direct and indirect selling expenses, and packing expenses. In determining whether to disregard home-market sales made at prices less than their COP, we examined, in accordance with sections 773(b)(1)(A) and (B) of the Act, whether such sales were made (1) within an extended period of time in substantial quantities, and (2) at prices which permitted the recovery of all costs within a reasonable period of time.

3. Results of the COP Test

Pursuant to section 773(b)(2)(C) of the Act, where less than 20 percent of the respondent's sales of a given product during the POI are at prices less than the COP, we do not disregard any below-cost sales of that product because we determine that in such instances the below-cost sales were not made in “substantial quantities.” Where 20 percent or more of a respondent's sales of a given product during the POI are at prices less than the COP, we determine that the below-cost sales represent “substantial quantities” within an extended period of time, in accordance with section 773(b)(1)(A) of the Act. In such cases, we also determine whether such sales were made at prices which would not permit recovery of all costs within a reasonable period of time, in accordance with section 773(b)(1)(B) of the Act.

We found that, for certain specific products, more than 20 percent of Siderar's home-market sales were at prices less than the COP and, in addition, such sales did not provide for the recovery of costs within a reasonable period of time. We therefore excluded these sales and used the remaining sales, if any, as the basis for determining NV, in accordance with section 773(b)(1) of the Act. For those U.S. sales of subject merchandise for which there were no comparable home-market sales in the ordinary course of trade (e.g., at above-cost prices), we compared those sales to constructed value (“CV”), in accordance with section 773(a)(4) of the Act.

4. Calculation of Constructed Value

Section 773(a)(4) of the Act provides that where NV cannot be based on comparison market sales, NV may be based on CV. Accordingly, for Siderar, when sales of comparison products could not be found, either because there were no sales of a comparable product or all sales of the comparable products failed the COP test, we based NV on CV.

In accordance with section 773(e)(1) and (e)(2)(A) of the Act, we calculated CV based on the sum of the cost of materials and fabrication for the subject merchandise, plus amounts for selling expenses, G&A, interest, profit, and U.S. packing costs. We calculated the cost of materials and fabrication based on the methodology described in the “Calculation of COP” section of this notice. In accordance with section 773(e)(2)(A) of the Act, we based selling expenses, G&A, and profit on the amounts incurred and realized by the company in connection with the production and sale of the foreign like product in the ordinary course of trade for consumption in the foreign market.

C. Level of Trade

Section 773(a)(1)(B)(i) of the Act states that, to the extent practicable, the Department will calculate NV based on sales at the same level of trade (“LOT”) as the EP or CEP. Sales are made at different LOTs if they are made at different marketing stages (or their equivalent). See 19 CFR 351.412(c)(2). Substantial differences in selling activities are a necessary, but not sufficient, condition for determining that there is a difference in the stages of marketing. Id.; see also Notice of Final Determination of Sales at Less Than Fair Value: Certain Cut-to-Length Carbon Steel Plate From South Africa, 62 FR 61731, 61732 (November 19, 1997). In order to determine whether the comparison sales were at different stages in the marketing process than the U.S. sales, we reviewed the distribution system in each market (i.e., the “chain of distribution”),² including selling functions,³ class of customer (“customer category”), and the level of selling expenses for each type of sale.

² The marketing process in the United States and comparison markets begin with the producer and extends to the sale to the final user or consumer. The chain of distribution between the two may have many or few links, and the respondent's sales occur somewhere along this chain. In performing this evaluation, we considered the narrative responses of the respondent to properly determine where in the chain of distribution the sale appears to occur.

³ Selling functions associated with a particular chain of distribution help us to evaluate the level(s) of trade in a particular market. For purposes of this preliminary determination, we have organized the common cold-rolled steel product functions into four major categories: sales process and marketing support, freight and delivery, inventory and warehousing, and quality assurance/warranty services.

Pursuant to section 773(a)(1)(B)(i) of the Act, in identifying LOTs for EP and comparison-market sales (i.e., NV based on either home-market or third-country prices), we consider the starting prices before any adjustments. For CEP sales, we consider only the selling activities reflected in the price after the deduction of expenses and profit under section 772(d) of the Act. See Micron Technology, Inc. v. United States, 243 F.3d 1301, 1314-1315 (Fed. Cir. March 7, 2001).

When the Department is unable to find sales of the foreign like product in the comparison market at the same LOT as the EP or CEP, the Department may compare the U.S. sale to sales at a different LOT in the comparison market. In comparing EP or CEP sales at a different LOT in the comparison market, where available data make it practicable, we make a LOT adjustment under section 773(a)(7)(A) of the Act. Finally, for CEP sales only, if a NV level of trade is more remote from the factory than the CEP level of trade and there is no basis for determining whether the difference in LOTs between NV and CEP affected price comparability (i.e., no LOT adjustment was practicable), the Department shall grant a CEP offset, as provided in section 773(a)(7)(B) of the Act. See Notice of Final Determination of Sales at Less Than Fair Value: Certain Cut-to-Length Carbon Steel Plate from South Africa, 62 FR 61731 (November 19, 1997).

We obtained information from Siderar regarding the marketing stages involved in making the reported home-market and U.S. sales, including a description of the selling activities performed by the respondent for each channel of distribution. Siderar's LOT findings are summarized below.

Siderar reported two channels of distribution in the home market—steel service centers (i.e., distributors) and end-users. The selling activities associated with all sales were similar (e.g., freight and delivery arrangements, inventory maintenance, market research, sales forecasting and after-sales service) and, based on our analysis of the selling activities, we considered the two channels of distribution to constitute one LOT.

In the U.S. market, Siderar reported two channels of distribution (i.e., CEP sales to its U.S. affiliate, Siderca Corporation, who sells “back-to-back” to unaffiliated U.S. customers and maintains no inventory), and EP sales to unaffiliated customers in the United States. After making deductions pursuant to section 772(d) of the Act, we found that Siderar performed basically the same sales functions for both channels of distribution in the U.S. market (e.g., inventory maintenance, sales forecasting and after-sales service, market research, and freight and delivery arrangements) and we considered both of these channels to be the same LOT.

Because the selling activities associated with the home-market LOT were not substantially different from than those associated with the U.S. LOT, we considered the home-market LOT to be the same as the U.S. LOT. Therefore, no LOT adjustment was necessary and we made no CEP-offset adjustment to NV.

D. Calculation of Normal Value Based on Comparison-Market Prices

We calculated NV based on delivered prices to unaffiliated customers. We made deductions, where appropriate, from the starting price for rebates. We also made deductions for movement expenses (i.e., inland freight expense from plant/warehouse to customer) under section 773(a)(6)(B)(ii) of the Act. In addition, we made adjustments under section 773(a)(6)(C)(iii) of the Act and 19 CFR 351.410 for differences in circumstances of sale for imputed credit expenses and we adjusted for differences in merchandise where we were unable to match identical products. We also deducted home-market packing costs and added U.S. packing costs in accordance with section 773(a)(6)(A) and (B) of the Act. Finally, in accordance with section 773(a)(6)(B)(iii) of the Act, we made a reduction to NV for the amount of the indirect tax (“reintegro”) not collected on exports of subject merchandise to the United States.

Currency Conversion

We made currency conversions into U.S. dollars in accordance with section 773A(a) of the Act based on the exchange rates in effect on the dates of the U.S. sales as certified by the Federal Reserve Bank.

Verification

As provided in section 782(i) of the Act, we will verify all information relied upon in making our final determination.

Critical Circumstances

Section 733(e)(1) of the Act provides that the Department will preliminarily determine that critical circumstances exist if there is a reasonable basis to believe or suspect that: (A)(i) there is a history of dumping and material injury by reason of dumped imports in the United States or elsewhere of the subject merchandise; or (ii) the person by whom, or for whose account, the merchandise was imported knew or should have known that the exporter was selling the subject merchandise at less than its fair value and that there was likely to be material injury by reason of such sales; and (B) there have been massive imports of the subject merchandise over a relatively short period.

Section 351.206(h)(1) of the Department's regulations provides that, in determining whether imports of the subject merchandise have been “massive,” the Department normally will examine the following information: (i) the volume and value of the imports; (ii) seasonal trends; and (iii) the share of domestic consumption accounted for by the imports. In addition, section 351.206(h)(2) of the Department's regulations provides that, “In general, unless the imports during the “relatively short period” have increased by at least 15 percent over the imports during an immediately preceding period of comparable duration, the Secretary will not consider the imports massive.”

Section 351.206(i) of the Department's regulations defines “relatively short period” as generally the period beginning on the date the proceeding begins (i.e., the date the petition is filed) and ending at least three months later. This section provides further that, if the Department “finds that importers, or exporters or producers, had reason to believe, at some time prior to the beginning of the proceeding, that a proceeding was likely,” then the Department may consider a period of not less than three months from that earlier time.

In determining whether the above statutory criteria have been satisfied, we examined the following information: (1) The evidence presented in the petitioners' submissions of December 7, 2001, and January 14, 2002; (2) new evidence obtained since the initiation of the less-than-fair-value (“LTFV”) investigations (i.e., additional import statistics released by the Census Bureau); and (3) the ITC's affirmative preliminary injury determination (see Certain Cold-Rolled Steel Products From Argentina, Australia, Belgium, Brazil, China, France, Germany, India, Japan, Korea, Netherlands, New Zealand, Russia, South Africa, Spain, Sweden, Taiwan, Thailand, Turkey, and Venezuela, International Trade Commission Investigations Nos. 701-TA-422-425 and 731-TA-964-983 Preliminary Determination, 66 FR 57985 (November 19, 2001)).

History of Dumping

In determining whether a history of dumping and material injury exists, the Department generally considers current or recent antidumping duty orders on the subject merchandise from the country in question in the United States and current orders in any other country. See Carbon and Alloy Steel Wire Rod From Germany, Mexico, Moldova, Trinidad and Tobago, and Ukraine: Notice of Preliminary Determination of Critical Circumstances, 67 FR 6224 (February 11, 2002) (Carbon and Alloy Steel Wire Rod). Because we are not aware of any existing antidumping order in any country on cold-rolled carbon steel flat products from Argentina, we do not find a history of dumping from Argentina, pursuant to section 733(e)(1)(A)(i) of the Act. However, the Department may look to the second criterion for determining whether importers knew or should have known that exporters were selling subject merchandise from Argentina at LTFV prices.

Importer Knowledge of Injurious Dumping

In determining whether there is a reasonable basis to believe or suspect that an importer knew or should have known the exporter was selling cold-rolled steel at less than fair value, the Department normally considers margins of 25 percent or more for export price (EP) sales and 15 percent or more for CEP sales sufficient to impute importer knowledge of sales at LTFV. See Carbon and Alloy Steel Wire Rod, 67 FR 6224, 6225.

The Department normally bases its decision with respect to knowledge on the margins determined in the preliminary determination. Therefore, for purposes of this preliminary determination of critical circumstances, we are relying on the margin calculated for Siderar for this preliminary determination. Because this margin is greater than 25 percent (see “Suspension of Liquidation” section below) in the case of Argentina, which has both EP and CEP sales, we find that there is a reasonable basis to impute knowledge of dumping with respect to imports from Argentina.

Material Injury

In determining whether there is a reasonable basis to believe or suspect that an importer knew or should have known that there was likely to be material injury by reason of dumped imports, the Department normally will look to the preliminary injury determination of the ITC. If the ITC finds a reasonable indication of present material injury to the relevant U.S. industry, the Department will determine that a reasonable basis exists to impute importer knowledge that material injury is likely by reason of dumped imports. See Final Determination of Sales at Less Than Fair Value: Certain Cut-To-Length Carbon Steel Plate from the People's Republic of China, 62 FR 61964 (November 20, 1997). In this case, the ITC preliminarily found that there is a reasonable indication that an industry in the United States is materially injured or threatened with material injury by reason of imports of subject merchandise from South Africa. See Determinations and Views of the Commission, Investigations Nos. 701-TA-422-425 and 731-TA-964-983, Publication 3471 (November 2001) (ITC Determination). Due to the ITC's finding of material injury, we preliminarily determine that there is a reasonable basis to believe or suspect that importers knew or should have known that imports of cold-rolled steel from Argentina were likely to cause material injury.

Massive Imports

In determining whether there are “massive imports” over a “relatively short period,” pursuant to section 733(e)(1)(B) of the Act, the Department normally compares the import volumes of the subject merchandise for at least three months immediately preceding the filing of the petition (i.e., the “base period”) to a comparable period of at least three months following the filing of the petition (i.e., the “comparison period”). However, as stated in 19 CFR 351.206(i), “if the Secretary finds importers, or exporters or producers, had reason to believe, at some time prior to the beginning of the proceeding, that a proceeding was likely, then the Secretary may consider a time period of not less than three months from that earlier time.” Imports normally will be considered massive when imports during the comparison period have increased by 15 percent or more compared to imports during the base period. We used company-specific shipment data and determined that there were no massive imports. We also found no massive imports for companies in the all other category. For a detailed analysis, see the memorandum from Richard Moreland to Faryar Shirzad, dated April 26, 2002 (Preliminary Negative Determination of Critical Circumstances—Argentina).

Suspension of Liquidation

In accordance with section 733(d)(2) of the Act, we are directing the Customs Service to suspend liquidation of all imports of subject merchandise that are entered, or withdrawn from warehouse, for consumption on or after the date of publication of this notice in the Federal Register. We will instruct the Customs Service to require a cash deposit or the posting of a bond equal to the weighted-average amount by which the NV exceeds the CEP, as indicated in the chart below. These suspension-of-liquidation instructions will remain in effect until further notice. The weighted-average dumping margins are as follows:

Exporter/manufacturer | Weighted- average margin percentage
Siderar | 70.56
All Others | ** 70.56
** As Siderar was the only respondent that we investigated, we used Siderar's margin as the all-others rate.

ITC Notification

In accordance with section 733(f) of the Act, we have notified the ITC of our determination. If our final determination is affirmative, pursuant to 735(b)(2) the ITC will determine before the later of 120 days after the date of this preliminary determination or 45 days after our final determination whether these imports are materially injuring, or threaten material injury to, the U.S. industry.

Disclosure

We will disclose the calculations used in our analysis to parties in this proceeding in accordance with 19 CFR 351.224(b).

Public Comment

Case briefs for this investigation must be submitted to the Department no later than seven days after the date of the final verification report issued in this proceeding. Rebuttal briefs must be filed five days from the deadline date for case briefs. A list of authorities used, a table of contents, and an executive summary of issues should accompany any briefs submitted to the Department. Executive summaries should be limited to five pages total, including footnotes. Section 774 of the Act provides that the Department will hold a public hearing to afford interested parties an opportunity to comment on arguments raised in case or rebuttal briefs, provided that such a hearing is requested by an interested party. If a request for a hearing is made in this investigation, the hearing will tentatively be held three days after the rebuttal brief deadline date at the U.S. Department of Commerce, 14th Street and Constitution Avenue, N.W., Washington, D.C. 20230. Parties should confirm by telephone the time, date, and place of the hearing 48 hours before the scheduled time.

Interested parties who wish to request a hearing, or to participate if one is requested, must submit a written request to the Assistant Secretary for Import Administration, U.S. Department of Commerce, Room 1870, within 30 days of the publication of this notice. Requests should contain: (1) The party's name, address, and telephone number; (2) the number of participants; and (3) a list of the issues to be discussed. Oral presentations will be limited to issues raised in the briefs.

We will make our final determination by no later than 135 days after the publication of this notice in the Federal Register.

This determination is published pursuant to sections 733(f) and 777(i) of the Act.

Dated: April 26, 2002.
Faryar Shirzad,
Assistant Secretary for Import Administration.

Appendix

Scope of the Investigations

For purposes of this investigation, the products covered are certain cold-rolled (cold-reduced) flat-rolled carbon-quality steel products, neither clad, plated, nor coated with metal, but whether or not annealed, painted, varnished, or coated with plastics or other non-metallic substances, both in coils, 0.5 inch wide or wider, (whether or not in successively superimposed layers and/or otherwise coiled, such as spirally oscillated coils), and also in straight lengths, which, if less than 4.75 mm in thickness having a width that is 0.5 inch or greater and that measures at least 10 times the thickness; or, if of a thickness of 4.75 mm or more, having a width exceeding 150 mm and measuring at least twice the thickness. The products described above may be rectangular, square, circular or other shape and include products of either rectangular or non-rectangular cross-section.

Specifically included in this scope are vacuum degassed, fully stabilized (commonly referred to as interstitial-free (IF)) steels, high strength low alloy (HSLA) steels, and motor lamination steels. IF steels are recognized as low carbon steels with micro-alloying levels of elements such as titanium and/or niobium added to stabilize carbon and nitrogen elements. HSLA steels are recognized as steels with micro-alloying levels of elements such as chromium, copper, niobium, titanium, vanadium, and molybdenum. Motor lamination steels contain micro-alloying levels of elements such as silicon and aluminum.

Steel products included in the scope of this investigation, regardless of definitions in the HTSUS, are products in which: (1) Iron predominates, by weight, over each of the other contained elements; (2) the carbon content is 2 percent or less, by weight, and; (3) none of the elements listed below exceeds the quantity, by weight, respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium (also called columbium), or 0.15 percent of vanadium, or 0.15 percent of zirconium.

All products that meet the written physical description, and in which the chemistry quantities do not exceed any one of the noted element levels listed above, are within the scope of this investigation unless specifically excluded. The following products, by way of example, are outside and/or specifically excluded from the scope of this investigation:

• SAE grades (formerly also called AISI grades) above 2300;

• Ball bearing steels, as defined in the HTSUS;

• Tool steels, as defined in the HTSUS; Silico-manganese steel, as defined in the HTSUS;

• Silicon-electrical steels, as defined in the HTSUS, that are grain-oriented;

• Silicon-electrical steels, as defined in the HTSUS, that are not grain-oriented and that have a silicon level exceeding 2.25 percent;

• All products (proprietary or otherwise) based on an alloy ASTM specification (sample specifications: ASTM A506, A507);

• Non-rectangular shapes, not in coils, which are the result of having been processed by cutting or stamping and which have assumed the character of articles or products classified outside chapter 72 of the HTSUS;

• Silicon-electrical steels, as defined in the HTSUS, that are not grain-oriented and that have a silicon level less than 2.25 percent, and (a) fully-processed, with a core loss of less than 0.14 watts/pound per mil (0.001 inch), or (b) semi-processed, with core loss of less than 0.085 watts/pound per mil (0.001 inch);

• Certain shadow mask steel, which is aluminum killed cold-rolled steel coil that is open coil annealed, has an ultra-flat, isotropic surface, and which meets the following characteristics:

Thickness: 0.001 to 0.010 inch

Width: 15 to 32 inches

Chemical Composition:

Element | C
Weight % | <0.002%

• Certain flapper valve steel, which is hardened and tempered, surface polished, and which meets the following characteristics:

Thickness: ≤1.0 mm

Width: ≤152.4 mm

Chemical Composition:

Element | C | Si | Mn | P | S
Weight% | 0.90-1.05 | 0.15-0.35 | 0.30-0.50 | ≤0.03 | ≤0.006

Mechanical Properties:

Tensile Strength | ≥162 Kgf/mm ²
Hardness | ≥475 Vickers hardness number

Physical Properties:

Flatness | <0.2% of nominal strip width

Microstructure: Completely free from decarburization. Carbides are spheroidal and fine within 1% to 4% (area percentage) and are undissolved in the uniform tempered martensite.

Non-metallic Iclusion:

| Area percentage
Sulfide Inclusion | ≤0.04 %
Oxide Inclusion | ≤0.05%

Compressive Stress: 10 to 40 Kgf/mm ²

Surface Roughness:

Thickness (mm) | Roughness (μm)
t ≤0.209 | Rz ≤0.5
0.209< t ≤0.310 | Rz ≤0.6
0.310< t ≤0.440 | Rz ≤0.7
0.440< t ≤0.560 | Rz ≤0.8
0.560< t | Rz ≤1.0

• Certain ultra thin guage steel strip, which meets the following characteristics:

Thickness: ≤0.100 mm ± 7%

Width: 100 to 600 mm

Chemical Composition:

Element | C | Mn | P | S | A1 | Fe
Weight % | ≤0.07 | 0.2-0.5 | ≤0.05 | ≤0.05 | ≤0.07 | Balance

Mechanical Properties:

Hardness | Full Hard (Hv 180 minimum)
Total Elongation | <3%
Tensile Strength | 600 to 850 N/mm

Physical Properties:

Surface Finish | ≤0.3 micron
Camber (in 2.0 m) | <3.0 mm
Flatness (in 2.0 m) | ≤0.5 mm
Edge Burr | <0.01 mm greater than thickness
Coil Set (in 1.0 m) | <75.0 mm

• Certain silicon steel, which meets the following characteristics:

Thickness: 0.024 inch ± .0015 inch

Width: 33 to 45.5 inches

Chemical Composition:

Element | C | Mn | P | S | Si | Al
Min. Weight % |  |  |  |  | 0.65 |
Max. Weight % | 0.004 | 0.4 | 0.09 | 0.009 |  | 0.4

Mechanical Properties:

Hardness | B 60-75 (AIM 65)

Physical Properties:

Finish | Smooth (30-60 microinches)
Gamma Crown (in 5 inches) | 0.0005 inch, start measuring one-quarter inch from slit edge
Flatness | 20 I-UNIT max
Coating | C3A-.08A max. (A2 coating acceptable)
Camber (in any 10 feet) | 1/16 inch
Coil Size I.D. | 20 inches

Magnetic Properties:

Core Loss (1.5T/60 Hz) NAAS | 3.8 Watts/Pound max
Permeability (1.5T/60 Hz) NAAS | 1700 gauss/oersted typical
| 1500 minimum

• Certain aperture mask steel, which has an ultra-flat surface flatness and which meets the following characteristics:

Thickness: 0.025 to 0.245 mm

Width: 381-1000 mm

Chemical Composition:

Element | C | N | Al
Weight % | <0.01 | 0.004 to 0.007 | <0.007

• Certain annealed and temper-rolled cold-rolled continuously cast steel, which meets the following characteristics:

Chemical Composition:

Element | C | Mn | P | S | Si | Al | As | Cu | B | N
Min. Weight % | 0.02 | 0.20 |  |  |  | 0.03 |  |  |  | 0.003
Max. Weight % | 0.06 | 0.40 | 0.02 | 0.023 (Aiming 0.018 Max.) | 0.03 | 0.08 (Aiming 0.05) | 0.02 | 0.08 |  | 0.008 (Aiming 0.005)

Non-metallic Inclusions: Examination with the S.E.M. shall not reveal individual oxides >1 micron (0.000039 inch) and inclusion groups or clusters shall not exceed 5 microns (0.000197 inch) in length.

Surface Treatment as follows: The surface finish shall be free of defects (digs, scratches, pits, gouges, slivers, etc.) and suitable for nickel plating.

Surface Finish:

| Roughness, RA Microinches (Micrometers): Aim | Roughness, RA Microinches (Micrometers): Min. | Roughness, RA Microinches (Micrometers): Max.
Extra Bright | 5 (0.1) | 0 (0) | 7 (0.2)

• Certain annealed and temper-rolled cold-rolled continuously cast steel, in coils, with a certificate of analysis per Cable System International (“CSI”) Specification 96012, with the following characteristics:

Chemical Composition:

Element | C | Mn | P | S
Max. Weight % | 0.13 | 0.60 | 0.02 | 0.05

Physical and Mechanical Properties:

Base Weight | 55 pounds
Theoretical Thickness | 0.0061 inch (±10 percent of theoretical thickness)
Width | 31 inches
Tensile Strength | 45,000-55,000 psi
Elongation | minimum of 15 percent in 2 inches

• Concast cold-rolled drawing quality sheet steel, ASTM a-620-97, Type B, or single reduced black plate, ASTM A-625-92, Type D, T-1, ASTM A-625-76 and ASTM A-366-96, T1-T2-T3 Commercial bright/luster 7a both sides, RMS 12 maximum. Thickness range of 0.0088 to 0.038 inches, width of 23.0 inches to 36.875 inches.

• Certain single reduced black plate, meeting ASTM A-625-98 specifications, 53 pound base weight (0.0058 inch thick) with a Temper classification of T-2 (49-57 hardness using the Rockwell 30 T scale).

• Certain single reduced black plate, meeting ASTM A-625-76 specifications, 55 pound base weight, MR type matte finish, TH basic tolerance as per A263 trimmed.

• Certain single reduced black plate, meeting ASTM A-625-98 specifications, 65 pound base weight (0.0072 inch thick) with a Temper classification of T-3 (53-61 hardness using the Rockwell 30 T scale).

• Certain cold-rolled black plate bare steel strip, meeting ASTM A-625 specifications, which meet the following characteristics:

Chemical Composition:

Element | C | Mn | P | S
Max. Weight % | 0.13 | 0.60 | 0.02 | 0.05

Physical and Mechanical Properties:

Thickness | 0.0058 inch ±0.0003 inch
Hardness | T2/HR 30T 50-60 aiming
Elongation | ≥15%
Tensile Strength | 51,000.0 psi ±4.0 aiming

• Certain cold-rolled black plate bare steel strip, in coils, meeting ASTM A-623, Table II, Type MR specifications, which meet the following characteristics:

Chemical Composition:

Element | C | Mn | P | S
Max. Weight % | 0.13 | 0.60 | 0.04 | 0.05

Physical and Mechanical Properties:

1
Thickness | 0.0060 inch (±0.0005 inch)
Width | 10 inches (+ ¼ to ⅜ inch/−0)
Tensile Strength | 55,000 psi max.
Elongation | Minimum of 15 percent in 2 inches

• Certain “blued steel” coil (also known as “steamed blue steel” or “blue oxide”), with a thickness of 0.30 mm to 0.42 mm and width of 609 mm to 1219 mm, in coil form;

• Certain cold-rolled steel sheet, coated with porcelain enameling prior to importation, which meets the following characteristics:

Thickness (nominal): ≤0.019 inch

Width: 35 to 60 inches

Chemical Composition:

Element | C | O | B
Max. Weight % | 0.004
Min. Weight % |  | 0.010 | 0.012

• Certain cold-rolled steel, which meets the following characteristics:

Width: >66 inches

Chemical Composition:

Element | C | Mn | P | Si
Max. Weight % | 0.07 | 0.67 | 0.14 | 0.03

Physical and Mechanical Properties:

Thickness Range (mm) | 0.800-2.000
Min. Yield Point (MPa) | 265
Max Yield Point (MPa) | 365
Min. Tensile Strength (MPa) | 440
Min. Elongation % | 26

• Certain band saw steel, which meets the following characteristics:

Thickness: ≤ 1.31 mm

Width: ≤ 80 mm

Chemical Composition:

Element | C | Si | Mn | P | S | Cr | Ni
Weight % | 1.2 to 1.3 | 0.15 to 0.35 | 0.20 to 0.35 | ≤0.03 | ≤0.007 | 0.3 to 0.5 | ≤0.25

Other properties:

Carbide: Fully spheroidized having >80% of carbides, which are ≤ 0.003 mm and uniformly dispersed

Surface finish: Bright finish free from pits, scratches, rust, cracks, or seams Smooth edges.

Edge camber (in each 300 mm of length): ≤ 7 mm arc height

Cross bow (per inch of width): 0.015 mm max.

• Certain transformation-induced plasticity (TRIP) steel, which meets the following characteristics:

Variety 1

Chemical Composition:

Element | C | Si | Mn
Min. Weight % | 0.09 | 1.0 | 0.90
Max. Weight % | 0.13 | 2.1 | 1.7

Physical and Mechanical Properties:

Thickness Range (mm) | 1.000-2.300 (inclusive)
Min. Yield Point (MPa) | 320
Max Yield Point (MPa) | 480
Min. Tensile Strength (MPa) | 590
Min. Elongation % | 24 (if 1.000-1.199 thickness range)
| 25 (if 1.200-1.599 thickness range)
| 26 (if 1.600-1.999 thickness range)
| 27 (if 2.000-2.300 thickness range)

Variety 2

Chemical Composition:

Element | C | Si | Mn
Min. Weight % | 0.12 | 1.5 | 1.1
Max. Weight % | 0.16 | 2.1 | 1.9

Physical and Mechanical Properties:

Thickness Range (mm) | 1.000-2.300 (inclusive)
Min. Yield Point (MPa). | 340
Max Yield Point (MPa) | 520
Min. Tensile Strength (MPa) | 690
Min. Elongation % | 21 (if 1.000-1.199 thickness range)
| 22 (if 1.200-1.599 thickness range)
| 23 (if 1.600-1.999 thickness range)
| 24 (if 2.000-2.300 thickness range)

Variety 3

Chemical Composition:

Element | C | Si | Mn
Min. Weight % | 0.13 | 1.3 | 1.5
Max. Weight % | 0.21 | 2.0 | 2.0

Physical and Mechanical Properties:

Thickness Range (mm) | 1.200-2.300 (inclusive)
Min. Yield Point (MPa) | 370
Max Yield Point (MPa) | 570
Min. Tensile Strength (MPa) | 780
Min. Elongation % | 18 (if 1.200-1.599 thickness range)
| 19 (if 1.600-1.999 thickness range)
| 20 (if 2.000-2.300 thickness range)

• Certain cold-rolled steel, which meets the following characteristics:

Variety 1

Chemical Composition:

Element | C | Mn | P | Cu
Min. Weight % |  |  |  | 0.15
Max. Weight % | 0.10 | 0.40 | 0.10 | 0.35

Physical and Mechanical Properties:

Thickness Range (mm) | 0.600-0.800
Min. Yield Point (MPa) | 185
>Max Yield Point (MPa) | 285
Min. Tensile Strength (MPa) | 340
Min. Elongation | 31 (ASTM standard 31% = JIS standard 35%)

Variety 2

Chemical Composition:

Element | C | Mn | P | Cu
Min. Weight % |  |  |  | 0.15
Max. Weight % | 0.05 | 0.40 | 0.08 | 0.35

Physical and Mechanical Properties:

Thickness Range (mm) | 0.800-1.000
Min. Yield Point (MPa) | 145
Max Yield Point (MPa) | 245
Min. Tensile Strength (MPa) | 295
Min. Elongation % | 31 (ASTM standard 31% = JIS standard 35%)

Variety 3

Chemical Composition:

Element | C | Si | Mn | P | S | Cu | Ni | Al | Nb, V, Ti, B | Mo
Max. Weight % | 0.01 | 0.05 | 0.40 | 0.10 | 0.023 | 0.15-.35 | 0.35 | 0.10 | 0.10 | 0.30

Physical and Mechanical Properties:

Thickness (mm) | 0.7
Elongation % | ≥35

• Porcelain enameling sheet, drawing quality, in coils, 0.014 inch in thickness, +0.002, -0.000, meeting ASTM A-424-96 Type 1 specifications, and suitable for two coats.

• Porcelain enameling sheet whether or not coated prior to importation with the following additional characteristics:

Cold-rolled steel for porcelain enameling, the foregoing being continuous annealed cold-reduced steel with a nominal thickness of not more than 0.48 mm and widths from 762 mm to 1,524 mm, having a chemical composition, by weight, of not more than 0.004 percent carbon, nor more than 0.010 percent aluminum, 0.006 percent or more of nitrogen, 0.012 percent or more of boron, and more than 0.005 percent silicon, and 0.010 percent or more of oxygen; having no intentional addition of and less than 0.002 percent by weight of titanium, no intentional addition of and less than 0.002 percent by weight of vanadium, no intentional addition of and less than 0.002 percent by weight of niobium, and no intentional addition of and less than 0.002 percent of antimony; having a yield strength of from 179.3 MPa to 344.7 MPa, a tensile strength of from 303.7 MPa to 413.7 MPa, a percent of elongation of from 28 percent to 46 percent on a standard ASTM sample with a 5.08 mm gauge length; for Fishscale resistance; hydrogen traps provided; with a product shape of flat after annealing, with flat defined as less than or equal to 1 I unit with no coil set.

The merchandise subject to this investigation is typically classified in the HTSUS at subheadings: 7209.15.0000, 7209.16.0030, 7209.16.0060, 7209.16.0090, 7209.17.0030, 7209.17.0060, 7209.17.0090, 7209.18.1530, 7209.18.1560, 7209.18.2550, 7209.18.6000. 7209.25.0000, 7209.26.0000, 7209.27.0000, 7209.28.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.90.0000, 7212.40.1000, 7212.40.5000, 7212.50.0000, 7225.19.0000, 7225.50.6000, 7225.50.7000, 7225.50.8010, 7225.50.8085, 7225.99.0090, 7226.19.1000, 7226.19.9000, 7226.92.5000, 7226.92.7050, 7226.92.8050, and 7226.99.0000.

Although the HTSUS subheadings are provided for convenience and Customs purposes, the written description of the merchandise under investigation is dispositive.

Scope Issues

In the Initiation Notice, we invited all interested parties to raise issues and comment regarding the product coverage under the scope of these investigations. We received numerous comments, including scope clarification and scope exclusion requests. The requests covered approximately 80 cold-rolled steel products.

In our review of the comments, we found that, in the overwhelming majority of the cases, parties disagreed on whether or not the exclusion should be granted. Both requesters and petitioners provided factual information and argument in support of their position. We are currently analyzing the information provided.

All parties, however, have agreed to the exclusion from the scope of these investigations of porcelain enameling sheet. This exclusion covers the following product:

Porcelain enameling sheet whether or not coated prior to importation with the following additional characteristics:

Porcelain enameling cold-rolled sheet, the foregoing being continuous annealed cold-reduced steel with a nominal thickness of not more than 0.48 mm and widths from 762 mm to 1,524 mm, having a chemical composition, by weight, of not more than 0.004 percent carbon, nor more than 0.010 percent aluminum, 0.006 percent or more of nitrogen, 0.012 percent or more of boron, and more than 0.005 percent silicon, and 0.010 percent or more of oxygen; having no intentional addition of and less than 0.002 percent by weight of titanium, no intentional addition of and less than 0.002 percent by weight of vanadium, no intentional addition of and less than 0.002 percent by weight of niobium, and no intentional addition of and less than 0.002 percent of antimony; having a yield strength of from 179.3 MPa to 344.7 MPa, a tensile strength of from 303.7 MPa to 413.7 MPa, a percent of elongation of from 28 percent to 46 percent on a standard ASTM sample with a 5.08 mm gauge length; for Fishscale resistance; hydrogen traps provided; with a product shape of flat after annealing, with flat defined as less than or equal to 1 I unit with no coil set.

Therefore, with regard to porcelain enameling cold-rolled sheet, we have amended the scope of these investigations to exclude this product as described above (see preceding Scope of the Investigations section). We will instruct Customs accordingly.

With regard to all other products for which an exclusion was requested, we have determined that it is not practicable for the Department to complete the analysis of each request by the issuance of the notice of preliminary determination. This is due to a number of factors, including the large number of requests and the complexity of the issues involved. We will issue a decision memorandum containing the Department's preliminary determination on all product exclusion requests submitted in the course of these investigations at the earliest possible date but not later than May 24, 2002.

We invite parties to comment on our preliminary determination on this issue. Parties will have three weeks to comment from the date of issuance of the memorandum.

[FR Doc. 02-11182 Filed 5-8-02; 8:45 am]

BILLING CODE 3510-DS-P